DEPARTMENT OF HOMELAND SECURITY

6 CFR Part 139

[Docket ID No. DHS-2024-0033]

RIN 1601-AB17

Protection of Federal Property

AGENCY: Department of Homeland Security.

ACTION: Final rule.

SUMMARY: The Department of Homeland Security (DHS) adopts this regulation to govern the protection of Federal property. DHS developed this regulation in consultation with the U.S. General Services Administration (GSA). Consistent with DHS' statutory authority, these regulations provide charging options for violations occurring on and adjacent to Federal property, update prohibited conduct to incorporate advancing technology, provide clearer public notice, and apply the regulations more uniformly to property owned, operated or secured by the Federal Government. This final rule makes no substantive changes from the proposed rule that was published in the Federal Register on January 15, 2025.

DATES: This rule is effective as of January 1, 2026.

FOR FURTHER INFORMATION CONTACT: John Havranek, Principal Deputy General Counsel, Office of the General Counsel, 202-447-0800, fpsnprm@fps.dhs.gov.

SUPPLEMENTARY INFORMATION:

Table of Contents

I. Background

II. Conclusion

III. Statutory and Regulatory Requirements

I. Background

The Homeland Security Act of 2002, Public Law 107-296, 116 Stat 2135 (Nov. 25, 2002) (the Act), expressly transfers the authority for law enforcement and related security functions for Federal properties from the GSA to the Secretary of DHS and requires the Secretary to “protect the buildings, grounds, and property that are owned, occupied, or secured by the Federal Government (including any agency, instrumentality, or wholly owned or mixed-ownership corporation thereof) and the persons on the property.” 40 U.S.C. 1315(a). The Act further authorizes the Secretary to designate officers and agents “for duty in connection with the protection of property owned or occupied by the Federal Government and persons on the property, including duty in areas outside the property to the extent necessary to protect the property and persons on the property.” 40 U.S.C. 1315(b)(1). Thus, in addition to moving the protective mission into DHS, the statute further expanded DHS's protective coverage to include duties in areas outside Federal property to the extent necessary to protect Federal property and persons thereon, as well as authorizing off-property investigations related to the protection of Federal property and the individuals on that property. 40 U.S.C. 1315(b)(2)(E).¹

¹ See 40 U.S.C. 318 (2000) (authorizing appointment of special policeman for GSA in connection with the policing of Federal property with authority as sheriffs and constables upon that property.)

In furtherance of the Secretary's responsibilities under the Act, and in consultation with the Administrator of GSA, on January 15, 2025, DHS published the proposed rule for the protection of Federal property in the Federal Register (90 FR 4398) (January 1, 2025).² No substantive comments were received during the 60-day public comment period.³

² 40 U.S.C. 1315(c)(1).

³ DHS received one out-of-scope written submission during the comment period, available at: https://www.regulations.gov/document/DHS-2024-0033-0001/comment.

The proposed rule better executes the Secretary's statutory mission as described above and executed by the Federal Protective Service (FPS), by creating new DHS regulations that conform with the Secretary's statutory authority at 40 U.S.C. 1315. Specifically, the proposed regulations promulgate criminal regulations consistent with the Secretary's statutory authority; expand charging options to cover GSA and non-GSA property, promote charging consistency in both GSA and non-GSA Federal facilities protected by DHS; modernize the personal conduct regulations to address technological advances and changing threat environment, provide clearer guidance and notice of prohibited conduct to the public; and permit the charging of regulatory violations occurring near or adjacent to Federal property.

Prior to the proposed rule, DHS relied upon the criminal regulations governing personal conduct on Federal property found in 41 CFR part 102-74, subpart C, of the Federal Management Regulation (FMR). The current FMR, however, is only applicable to GSA-property (not all property protected by FPS) and applies only when the conduct is committed on the property itself and not adjacent thereto. Accordingly, the FMR are not as comprehensive and do not fully conform to the Secretary's authority under 40 U.S.C. 1315 to protect Federal property falling within DHS's jurisdiction. The proposed rule closes these enforcement gaps. Informed by lessons learned from terrorist attacks and other criminal misconduct, and based off 41 CFR part 102-74, subpart C, the proposed rule addresses the day-to-day criminal activity encountered by DHS on Federal property and provides FPS officials a more current, flexible, and consistent law enforcement tool.

The proposed rule provided for 60-days of public comment, and no substantive comments were received during the 60-day public comment period.⁴ Additional explanation about the proposed rule changes can be found in the preamble at 90 FR 4398, 4401-4413. DHS maintains the same rationale from the proposed rule and applies such reasoning to this final rule.

⁴ DHS received one out-of-scope written submission during the comment period, available at: https://www.regulations.gov/document/DHS-2024-0033-0001/comment.

II. Final Rule

DHS is adopting as final the proposed rule, published in the Federal Register (90 FR 4398) on January 15, 2025, without substantive changes.

DHS makes a minor change to the “service animal” definition and prohibition of “animals” section to make clear the definition aligns with DOJ's Nondiscrimination on the Basis of Disability in State and Local Government Services regulations by adding cross-references to 28 CFR part 35. In addition, for consistency with the Administration's priority to facilitate the smooth administration of operations on Federal properties, DHS at this time is not finalizing the proposed exception to solicitation in § 139.55(b)(3) and corresponding definition in § 139.15.

III. Statutory and Regulatory Requirements

Given that DHS is making no changes at the final rule stage and received no substantive comments, DHS maintains the same findings in “Section V. Regulatory Analyses” from the proposed rule and applies such findings to this final rule.

Since publication of the proposed rule, new Executive Order (E.O.) 14192 (Unleashing Prosperity Through Deregulation) directs agencies to significantly reduce the private expenditures required to comply with Federal regulations and provides that “for each new regulation issued, at least 10 prior regulations be identified for elimination. This practice is to ensure that the cost of planned regulations is responsibly managed and controlled through a rigorous regulatory budgeting process.” ⁵

⁵ 90 FR 9065 (Feb. 6, 2025).

The Office of Management and Budget (OMB) has not designated this rule a “significant regulatory action,” under section 3(f) of E.O. 12866. Accordingly, it is not an E.O. 14192 regulatory action and OMB has not reviewed it.

List of Subjects in 6 CFR Part 139

Aircraft, Alcohol and alcoholic beverages, Animals, Buildings and facilities, Civil disorders, Crime, Explosives, Federal buildings and facilities, Firearms, Gambling, Government employees, Government property, Government property management, Homeland security, Law enforcement, Law enforcement officers, Penalties, Public buildings, Safety, Security measures, Terrorism, Tobacco, Unmanned aircraft.

For the reasons set forth in the preamble, DHS adds part 139, under the authority of 40 U.S.C. 1315(c), to chapter I of title 6 of the Code of Federal Regulations to read as follows:

PART 139—CONDUCT ON FEDERAL PROPERTY

Subpart A—General
Sec.
139.1 Purpose.
139.5 Scope, applicability, and agency cooperation.
139.10 Assessments for protective services.
139.15 Definitions.
Subpart B—Personal Conduct Affecting Federal Property
139.20 Admissions and inspections related to Federal property.
139.25 Preservation of Federal property.
139.30 Conformance with signs and directions.
139.35 Prohibited conduct.
139.40 Gambling.
139.45 Narcotics, other drugs, and drug paraphernalia.
139.50 Alcoholic beverages.
139.55 Soliciting, vending, and debt collection.
139.60 Posting and distributing materials.
139.65 Photography and recording.
139.70 Vehicle operation and removal.
139.75 Firearms, dangerous weapons, and explosives.
139.80 Animals.
139.85 Penalties.

Authority: 6 U.S.C. 203(3) and 232(a); 40 U.S.C. 586(c) and 1315.

PART 139—CONDUCT ON FEDERAL PROPERTY

Subpart A—General

§ 139.1 Purpose.

The regulations in this part provide for the protection and administration of the buildings, grounds, and property or portions thereof that are owned, occupied, or secured by the Federal Government (including any agency, instrumentality, or wholly owned or mixed-ownership corporation thereof) and the persons on the property.

§ 139.5 Scope, applicability, and agency cooperation.

(a) Scope. This part applies to all Federal property under the protection responsibility of the Secretary of Homeland Security and all persons on such property, as well as areas outside such Federal property to the extent necessary to protect the property and persons on the property.

(b) Applicability. This part shall not be construed to nullify any other Federal, state, or local laws or regulations applicable to any area in which Federal property is situated; preclude or limit the authority of any Federal law enforcement agency; or restrict the authority of the Administrator of General Services or other Federal Government entity to promulgate regulations affecting property under its jurisdiction, custody, or control.

(c) Cooperation. Federal tenants must cooperate to the fullest extent possible with all applicable provisions set out in this part; promptly report all crimes and suspicious circumstances occurring on Federal property first to the Federal Protective Service MegaCenter at 1-877-4FPS-411, and, as appropriate, the local responding law enforcement authority; provide training to employees regarding protection and responses to emergency situations; and make recommendations for improving the effectiveness of protection on Federal property.

(d) Notice. The Facility Security Committee or highest-ranking official of the sole Federal agency occupant or a designee must ensure a notice is posted in a conspicuous place at each Federal facility under the protection responsibility of the Secretary of Homeland Security. The posted notice:

(1) Shall be 11 inches by 14 inches;

(2) Shall describe the rules and regulations governing personal conduct contained in this part; and

(3) Shall be prescribed in accordance with directions provided by the Department of Homeland Security (DHS) and found on its website at: https://www.dhs.gov/fps-visitors.

(e) Effective date. The regulations in this part are effective January 1, 2026.

§ 139.10 Assessments for protective services.

The Secretary of Homeland Security is authorized to charge Federal agencies under the Secretary's protection responsibility for security services provided by the Federal Protective Service.

§ 139.15 Definitions.

For purposes of this part—

Aircraft means any contrivance invented, used, or designed to navigate, or fly in, the air.

Audio recording means the use of any microphone, device, material, or equipment to capture a sound, including any tape recorder, digital recorder, or other recording device.

Building means an enclosed structure (above or below grade).

Building manager/property manager/facility manager means the individual employed by or through contract with a Federal agency that has real property management and operations authority.

Camping means the use of Federal property for living accommodation purposes. The following activities constitute camping when it reasonably appears, based on the totality of the circumstances, that the participant, in conducting these activities, is in fact using the area as a living accommodation: sleeping or preparing to sleep, including the laying down of bedding for the purpose of sleeping; storing personal belongings; making any fire; using a tent, shelter, other structure, or vehicle for sleeping; doing any digging or earth breaking; or carrying on cooking activities.

Commercial purpose means to undertake an activity with the objective of furthering, promoting, or selling a good or service regardless of whether the activity is intended to produce a profit.

Crime of violence means any offense that has as an element the use, attempted use, or threatened use of physical force against the person or property of another.

Damaging means injuring, mutilating, defacing, destroying, or impairing the use of any property owned, occupied, or secured by the Federal Government without the consent of the Federal Government.

Dangerous weapon means a weapon, device, instrument, material, or substance, animate or inanimate, that is used for, or is readily capable of causing, death or serious bodily injury, except that a pocketknife with a blade of less than two and a half inches in length is not a dangerous weapon.

Designated Official is the highest-ranking official of the primary Federal occupant agency of a Federal facility, or, alternatively, a designee selected by agreement of Federal occupant agency officials.

Emergency means a situation that causes or has the potential to cause imminent danger to life or property, including, but not limited to, terrorist attacks, bombings and bomb threats, shootings, civil disturbances, fires, explosions, electrical failures, loss of water pressure or other critical infrastructure failures, chemical and gas leaks, medical emergencies, natural disasters, or other threats to public safety and security.

Facility Security Committee means a group of representatives from Federal tenants in the facility responsible for addressing facility-specific security issues and approving the implementation of security measures and practices. The Facility Security Committee (FSC) consists of representatives of all Federal tenants in the facility, the Federal Protective Service or the Government agency or internal agency component responsible for physical security for the specific facility, and the owning or leasing department or agency with jurisdiction, custody, or control over the property. In the case of new construction or pending lease actions, the FSC will also include the project team and the planned tenant(s).

Federal facility means a federally owned or leased building, structure, or the land it resides on, in whole or in part, that is regularly occupied by Federal employees or Federal contractor workers for nonmilitary activities. The term “Federal facility” also means any building or structure acquired by a contractor through ownership or leasehold interest, in whole or in part, solely for the purpose of executing a nonmilitary Federal mission or function under the direction of an agency. The term “Federal facility” does not include public domain land, including improvements thereon; withdrawn lands; or buildings or facilities outside of the United States.

Federal Government means the United States Government, including any agency, instrumentality, or wholly owned or mixed-ownership corporation thereof.

Federal grounds mean all parts outside a Federal facility (e.g., lands, walkways, and roadways) that are owned, occupied, or secured by the Federal Government.

Federal property means any facility, grounds, or other property, to include vehicles, equipment, and any movable article, that is owned, occupied, or secured by the Federal Government and under the protection responsibility of the Secretary of Homeland Security.

Federal tenant means a Federal department or agency that occupies space and pays rent on space in any Federal facility under the protection responsibility of the Secretary of Homeland Security.

Gambling per se means a game of chance where the participant risks something of value for the chance to gain or win a prize.

Image recording means use of any camera, device, material, or equipment to capture an image, including any photograph, sketch, picture, drawing, map, or graphical representation.

Littering means discarding wastepaper, cans, bottles, or other refuse or rubbish on the ground or in any other area not designated for disposal.

Nuisance means a condition, activity, or situation, to include a loud noise or foul odor, that interferes with the use or enjoyment of Federal property.

Open container means a bottle, can, or any other receptacle containing an alcoholic beverage that is open, has a broken seal, or from which the contents are partially removed.

Personal property means any article or item, including but not limited to outer clothing, purses, backpacks, briefcases, suitcases, packages, and other containers within the possession, custody, or control of a person.

Personal transportation device means any method of conveyance, whether motorized or non-motorized, including but not limited to any personal transportation vehicle, skateboards, roller skates (including inline skates), roller shoes, roller skis, scooters, bicycles, non-medical use personal transporters, and similar devices or vehicles.

Protective Security Officer means a security guard employed by a private security contractor who provides contract security services to the Federal Protective Service (FPS) The contract security services provided by a Protective Security Officer include, but are not limited to, the performance of security screenings and inspections of persons, personal property, and vehicles entering Federal property; confronting individuals who have violated or are suspected of violating building rules and regulations; and reporting all such security-related information to FPS.

Public area means any part or section on Federal property that is ordinarily open to members of the public.

Secretary means the Secretary of the Department of Homeland Security or any person, officer, or entity within the Department to whom the Secretary's authority under 40 U.S.C. 1315 is delegated.

Secure area means any part or section on Federal property marked by signage where persons present themselves to enter the property and submit to the security inspection and screening process.

Security personnel means persons authorized to ensure compliance with this part, including FPS law enforcement officers, protective security officers (PSO), court security officers, or other security personnel charged by the Federal Government with security duties under this part such as other DHS component armed security guards performing similar duties as contract PSOs.

Service animal has the meaning given in 28 CFR 35.104. Generally, service animal means any dog that is individually trained to do work or perform tasks for the benefit of an individual with a disability, including a physical, sensory, psychiatric, intellectual, or other mental disability.

Tobacco product means any item made or derived from tobacco that is intended for human consumption, including any component, part, or accessory of a tobacco product (except for raw materials other than tobacco used in manufacturing a component, part, or accessory of a tobacco product). Tobacco product does not mean any item specifically excluded by the Food, Drug, and Cosmetic Act, 21 U.S.C. 301 et seq.

Unmanned aircraft means an aircraft that is operated without the possibility of direct human intervention from within or on the aircraft.

Unmanned aircraft system means an unmanned aircraft and associated elements (including communication links and components that control the unmanned aircraft) that are required for the operator to operate safely and efficiently in the national airspace system.

Vehicle means any method of conveyance, whether motorized or non-motorized, including but not limited to any motorcycle, automobile, truck, tractor, bus, motorhome, agricultural machinery, construction equipment, and other similar vehicle, even if autonomously operated.

Water area means any area where water is retained or collected such as a fountain, basin, pool, pond, septic or sewer, reservoir, or other manmade water feature maintained on Federal property.

Subpart B—Personal Conduct Affecting Federal Property

§ 139.20 Admissions and inspections related to Federal property.

When a Facility Security Committee (FSC) or the highest-ranking official of the sole Federal agency occupant or designee requires inspections at a Federal facility, then no person required to be screened may enter a secure area without submitting to the screening and inspection of that person and all accessible personal property or vehicles. Security personnel shall conduct inspections and screening as follows:

(a) Security personnel shall inspect any person, article of personal property, or vehicle, when entering in or present on Federal property, for firearms, explosives, dangerous weapons, and the component parts thereof.

(b) Once a person, article of personal property, or vehicle enters a secure area, the inspection process will not terminate until completed by security personnel.

(c) Security personnel may deny admission, remove, or take other appropriate law enforcement action with respect to any person, article of personal property, or vehicle that fails to comply with security procedures, delays or impairs the inspection process, or presents a threat to either security personnel or other persons in or on Federal property.

§ 139.25 Preservation of Federal property.

All persons are prohibited from the following conduct affecting Federal property:

(a) Littering;

(b) Damaging or otherwise changing the appearance of Federal property in any way except through authorized normal and customary use;

(c) Removing Federal property without proper authority;

(d) Creating any hazard or threat of hazard on Federal property to persons or things;

(e) Throwing articles of any kind from or at Federal property;

(f) Climbing on any statue, fountain, or part of a Federal facility, or any tree, shrub, or plant on Federal property; and

(g) Using, operating, parking, locking, or storing any vehicle or personal transportation device on Federal property, except as either required by individuals with mobility impairments, or otherwise specifically allowed in designated areas.

§ 139.30 Conformance with signs and directions.

Any person on Federal property must at all times comply with official signs of a prohibitory, regulatory, or directive nature and with the lawful direction of security personnel.

§ 139.35 Prohibited conduct.

All persons are prohibited from engaging in the following conduct, on Federal property or in areas outside Federal property, that affects, threatens, or endangers Federal property or persons on the Federal property—

(a) Disorderly conduct, which includes, but is not limited to, assaulting, fighting, harassing, intimidating, threatening or other violent behavior, lewd acts, or the inappropriate disposal of feces, urine, and other bodily fluids.

(b) Wearing a mask, hood, disguise, or device that conceals the identity of the wearer when attempting to avoid detection or identification while violating any Federal, state, or local law, ordinance, or regulation.

(c) Creating a loud or unusual noise, noxious odor, or other nuisance.

(d) Obstructing the usual use, enjoyment, or access to Federal property, including but not limited to use of entrances, exits, exterior areas, plazas, courtyards, foyers, lobbies, corridors, offices, elevators, escalators, stairways, parking areas, garages, loading docks, and areas on Federal property designated as closed during an emergency.

(e) Impeding or disrupting the security inspection process administered by security personnel, the performance of official duties by Federal employees, or the ability of the general public to obtain services provided by the Federal Government.

(f) Threatening by any means, including but not limited to by mail, facsimile, telephone, or electronic communications, to commit any crime of violence.

(g) Bathing, wading, or swimming in or polluting any water area, except where authorized by the Federal agency responsible for the property.

(h) Camping, except in designated areas and as expressly authorized by the Facility Security Committee, Designated Official, or Federal agency responsible for the property.

(i) Trespassing, entering, or remaining in or upon areas of Federal property closed to the public.

(j) Consuming a tobacco product in all interior space owned, rented, or leased by the Federal Government, as well as all courtyards, terraces, and plazas within 25 feet of doorways and air intake ducts under the custody, control, or jurisdiction of the Federal Government.

(k) Causing an unmanned aircraft or system to take off or land on Federal property without express permission from the Facility Security Committee, Designated Official, or Federal agency responsible for the property.

(l) Using an unmanned aircraft or system to cause interference, damage, destruction, harm, or a hazard to Federal property or persons on the property.

(m) Tampering with, accessing, damaging, or interfering with the operation of a computer, digital network, industrial control system or Supervisory Control and Data Acquisition (SCADA) system without proper authorization.

(n) No person, except authorized security personnel or sworn law enforcement officers, may wear, display, present, or possess any indicia of law enforcement or security authority, to include any badge, insignia, emblem, identification card, uniform or part of a uniform, or any imitation thereof.

§ 139.40 Gambling.

(a) General rule. Any person on Federal property is prohibited from—

(1) Participating in games for money or other personal property;

(2) Operating gambling devices;

(3) Conducting a lottery or pool; or

(4) Selling or purchasing gambling tickets.

(b) Exceptions. This section is not intended to prohibit:

(1) Vending or exchange of chances by licensed blind operators of vending facilities for any lottery set forth in a State law and authorized by section 2(a)(5) of the Randolph-Sheppard Act (20 U.S.C. 107 et seq.); and

(2) Prize drawings for personal property at otherwise permitted functions on Federal property, provided that the game or drawing does not constitute gambling per se.

§ 139.45 Narcotics, other drugs, and drug paraphernalia.

(a) Narcotics and other drugs. Except when a patient uses a narcotic or drug as prescribed by a licensed health care provider in accordance with Federal law, any person on Federal property is prohibited from being under the influence of, using, possessing, or operating a vehicle while under the influence of any controlled substance as defined in 21 U.S.C. 802, 812, 841.

(b) Drug paraphernalia. Any person on Federal property is prohibited from possessing drug paraphernalia as defined in 21 U.S.C. 863.

§ 139.50 Alcoholic beverages.

(a) General rule. Any person on Federal property is prohibited from either consuming, or otherwise being under the influence of alcoholic beverages, possessing an open container of alcohol, or operating a vehicle while under the influence of alcohol.

(b) Exception. The head of the occupant agency for the designee in the space where the alcohol is to be served may grant a written exemption to the prohibition against the consumption of alcoholic beverages on Federal property. A copy of any granted exemption must be provided to the building manager and the officials responsible for the security of the property before the event at which alcohol will be consumed is held.

§ 139.55 Soliciting, vending, and debt collection.

(a) General rule. Soliciting, begging, or demanding gifts, money, goods, or services on Federal property is prohibited, unless otherwise provided in paragraph (b) of this section. Any person on Federal property is specifically prohibited from:

(1) Soliciting on behalf of:

(i) Charitable organizations.

(ii) Political campaigns.

(iii) Commercial enterprises.

(2) Vending merchandise of any kind.

(3) Displaying or distributing commercial advertising.

(4) Collecting private debts, including repossession of vehicles.

(b) Exceptions. The following activities are allowed:

(1) Soliciting on behalf of charitable organizations as authorized by 5 CFR part 950 and sponsored or approved by the occupant agency.

(2) Posting concessions or personal notices by employees on authorized bulletin boards.

(3) Lessee, or its agents and employees, with respect to space leased for commercial, cultural, educational, or recreational use under 40 U.S.C. 581(h). Public areas of General Services Administration (GSA)-controlled property may be used for other activities in accordance with 41 CFR part 102-74, subpart D.

(4) Collection of non-monetary items that are sponsored or approved by the Federal occupant agencies.

(5) Commercial activities sponsored by recognized Federal employee associations and on-site childcare centers.

§ 139.60 Posting and distributing materials.

(a) General rule. Any person on Federal property is prohibited from the following activities:

(1) Posting or affixing materials, such as pamphlets, handbills, or flyers on Federal property, including vehicles, bulletin boards, and other equipment.

(2) Distributing materials, such as pamphlets, handbills or flyers, or free samples, including samples of tobacco products.

(b) Exceptions. (1) The posting or distribution of materials is allowed when conducted as part of an authorized Federal activity.

(2) An individual may distribute materials in public areas on Federal property, provided the person first obtains a permit from the building manager, as specified in 41 CFR 102-74, subpart D, and the person does not leave behind any of the materials.

§ 139.65 Photography and recording.

(a) General. Any person on Federal property may not photograph or create video, image, or audio recordings of Federal facilities and grounds in a manner that either impedes or disrupts access to or operations on Federal property, or is prohibited by a security regulation, rule, order, or directive. Photography and recording on Federal property are allowed as provided paragraph (b) of this section.

(b) Exceptions. The following activities are allowed:

(1) Any person, including persons affiliated with the media and commercial entities, may photograph or record video, images, and audio of publicly accessible exterior areas of Federal facilities and grounds from public areas, including public streets, sidewalks, parks, and plazas, when not impeding or disrupting access to or operations on the Federal property.

(2) Any person, including persons affiliated with the media and commercial entities, may photograph or record video, images, and audio of publicly accessible interior areas of Federal facilities and grounds from public areas, including public entrances, lobbies, foyers, corridors, or auditoriums, when not impeding or disrupting access to or operations on the Federal property.

(3) Any person, including persons affiliated with the media and commercial entities, may only photograph or record video, images, and audio of interior areas occupied by a Federal tenant with the express permission of the occupying tenant. Persons must obtain written permission in advance from the occupying tenant when photographing or recording tenant-occupied space for a commercial purpose.

§ 139.70 Vehicle operation and removal.

(a) Safe operation. All vehicle operators on Federal property must:

(1) Drive/operate in a careful and safe manner at all times;

(2) Possess a valid driver's/operator's license;

(3) Comply with the lawful signals and directions of security personnel; and

(4) Comply with traffic and safety signals and posted signs.

(b) Prohibited operations. All vehicle operators on Federal property or in areas outside Federal property that affect, threaten, or endanger Federal property or persons on the property, are prohibited from:

(1) Blocking entrances, driveways, walks, loading platforms, fire hydrants, docking areas, or other passageways; and

(2) Parking on or adjacent to Federal property in unauthorized locations, or contrary to the direction of posted signs consistent with 41 CFR 102-74.265 through 102-74.310.

(c) Responsibility. Registered vehicle owners will be responsible for violations of this section when the vehicle operator is not present.

(d) Enforcement. Security personnel may stop any vehicle that is observed operating on Federal property in violation of this section.

(e) Removal and seizure. Any vehicle used in violation of this section may be seized, removed, immobilized, towed, stored, marked with warning tags or notices, and booted in addition to any law enforcement actions or citations. All expenses incurred because of any seizure, removal, immobilization, towing, storage, marking, booting, or other law enforcement actions will be the responsibility of the owner, driver, operator, or other person using or operating the vehicle that is in violation of this section.

§ 139.75 Firearms, dangerous weapons, and explosives.

(a) Any person on Federal property is prohibited from knowingly carrying or otherwise possessing a firearm or other dangerous weapon, as defined by 18 U.S.C. 921 and 930, whether carried or otherwise possessed either openly or concealed, unless authorized by 18 U.S.C. 930(d).

(b) Any person on Federal property is prohibited from knowingly carrying or otherwise possessing explosives, as defined by 18 U.S.C. 841, or items intended to be used to fabricate an explosive or incendiary device, whether carried or otherwise possessed either openly or concealed, except for official purposes as authorized by the Facility Security Committee, Designated Official, FPS, or other primary law enforcement agency responsible for the security of the Federal property.

§ 139.80 Animals.

(a) General rule. All persons are prohibited from bringing animals in or on Federal property for other than official purposes.

(b) Exception. Persons with disabilities, as defined under the Americans with Disabilities Act of 1990, may, consistent with 28 CFR 35.136, bring a service animal or miniature horse that is trained to do work or perform tasks for the benefit of that individual. The work or tasks performed by a service animal must be directly related to the individual's disability. Examples of work or tasks include, but are not limited to, assisting individuals who are blind or have low vision with navigation and other tasks, alerting individuals who are deaf or hard of hearing to the presence of people or sounds, providing non-violent protection or rescue work, pulling a wheelchair, assisting an individual during a seizure, alerting individuals to the presence of allergens, retrieving items such as medicine or the telephone, providing physical support and assistance with balance and stability to individuals with mobility disabilities, and helping persons with psychiatric and neurological disabilities by preventing or interrupting impulsive or destructive behaviors. The crime deterrent effects of an animal's presence and the provision of emotional support, well-being, comfort, or companionship do not constitute work or tasks for purposes of the exception in this paragraph (b). Persons with disabilities may be required to state whether the animal is a service animal required because of a disability.

§ 139.85 Penalties.

A person who violates any provision of this subpart may be punished by a fine under title 18, United States Code, imprisoned for not more than 30 days, or both.

Kristi Noem,
Secretary of Homeland Security.

[FR Doc. 2025-10223 Filed 6-6-25; 8:45 am]

BILLING CODE 9111-CC-P